DEPARTMENT OF COMMERCE

National Oceanic and Atmospheric Administration

RIN 0648-XG127

Endangered and Threatened Species; Take of Anadromous Fish

AGENCY: National Marine Fisheries Service (NMFS), National Oceanic and Atmospheric Administration (NOAA), Commerce.

ACTION: Notice of receipt of one enhancement permit application and request for comment.

SUMMARY: Notice is hereby given that NMFS has received one permit application submitted by FISHBIO Environmental, LLC. (FISHBIO) to enhance the propagation and survival of species listed under the Endangered Species Act (ESA) of 1973, as amended, for a five-year period. This document serves to notify the public of the availability of the permit application for review and comment, prior to a decision by NMFS whether to issue the permit. The permit application may be viewed online at: https://apps.nmfs.noaa.gov/preview/preview_open_for_comment.cfm.

DATES: Comments or requests for a public hearing on the application must be received at the appropriate address or fax number (see ADDRESSES) no later than 5 p.m. Pacific standard time on April 30, 2018.

ADDRESSES: Written comments on the application should be submitted to the NMFS California Central Valley Office, 650 Capitol Mall, Suite 5-100, Sacramento, CA 95814. Comments may also be submitted via fax to (916) 930-3629, or by email to Amanda.Cranford@noaa.gov (include the permit number in the subject line of the fax or email).

FOR FURTHER INFORMATION CONTACT: Amanda Cranford, Sacramento, CA (Phone: (916) 930-3706; Fax: (916) 930-3629; Email: Amanda.Cranford@noaa.gov). Permit application instructions are available from the address above, or online at https://apps.nmfs.noaa.gov.

SUPPLEMENTARY INFORMATION:

ESA-Listed Species Covered in This Notice

Chinook salmon (Oncorhynchus tshawytscha): Threatened, naturally produced and hatchery propagated Central Valley (CV) spring-run;

Steelhead (O. mykiss): Threatened, naturally produced and artificially propagated California Central Valley (CCV).

North American green sturgeon (Acipenser medisrostris): Threatened, naturally produced southern distinct population segment (SDPS).

Permit Application Received

Permit 21477

FISHBIO has applied for an enhancement permit under section 10(a)(1)(A) of the ESA for a period of five years that would allow take of both adult and juvenile CV spring-run Chinook salmon, CCV steelhead, and SDPS green sturgeon. Recent Federal legislation (Section 4010 of the Water Infrastructure Improvements for the Nation Act (WIIN Act); December 16, 2016) requires the Oakdale Irrigation District and the South San Joaquin Irrigation District (Districts) and NMFS to jointly establish a nonnative predator research and pilot fish removal program in the Stanislaus River to investigate whether nonnative predator removal is an effective strategy to improve overall conditions for native fish, especially the survival of juvenile salmonids. The general approach of the program is intended to build off previous nonnative predator removal studies conducted in the Central Valley. The program will allow examination of the biological and ecological responses of both ESA-listed and non-listed native fish (particularly salmonids) and the fish community in relation to predator exclusion and removal efforts. Specific study questions will focus on changes in the densities and relative abundances in these native fish and fish community assemblages.

The program will be carried out using three primary methods: (1) An exclusion weir equipped with a live box (or fyke trap) will be used to trap and remove nonnative predatory fish. Native fish will be trapped daily and selectively passed upstream of the weir in order to reduce the potential for in-trap predation and to minimize delays in migration; (2) boat electrofishing is proposed to estimate the abundance of nonnative predators and to conduct predator removals; and (3) survival will be assessed by conducting releases of acoustically tagged hatchery-origin Chinook salmon juveniles upstream of areas where predator removal has occurred.

Although ESA-listed species are not directly targeted by the program, they may be incidentally captured and handled during electrofishing sampling. All efforts will be made to limit electrofishing in areas where juvenile salmonids may be present or rearing. Electrofishing will follow strict guidelines to minimize mortality and established measures will be taken to protect species listed under the ESA. The proposed operation of a weir in the Stanislaus River could impact ESA-listed species by delaying adult upstream migration. Additionally, trapping at the weir may result in the capture of adult ESA-listed species. These effects will be minimized by frequent (at least daily) trap checks at the site and prioritization of ESA-listed species for handling and release prior to other non-listed species.

Authority

Enhancement permits are issued in accordance with section 10(a)(1)(A) of the ESA (16 U.S.C. 1531 et seq.) and regulations governing listed fish and wildlife permits (50 CFR part 222). NMFS issues permits based on findings that such permits: (1) Are applied for in good faith; (2) if granted and exercised, would not operate to the disadvantage of the listed species that are the subject of the permit; (3) are consistent with the purposes and policies of section 2 of the ESA; (4) further a bona fide and necessary or desirable scientific purpose or enhance the propagation or survival of the endangered species, taking into account the benefits anticipated to be derived on behalf of the endangered species; and additional issuance criteria as listed at 50 CFR 222.308(c)(5-12). The authority to take listed species is subject to conditions set forth in the permit.

Anyone requesting a hearing on an application listed in this notice should set out the specific reasons why a hearing on that application would be appropriate (see ADDRESSES). Such hearings are held at the discretion of the Assistant Administrator for Fisheries, NMFS.

Public Comments Solicited

NMFS invites the public to comment on the section 10(a)(1)(A) enhancement permit application during a 30-day public comment period beginning on the date of this notice. This notice is provided pursuant to section 10(c) of the ESA (16 U.S.C. 1529(c)). All comments and materials received, including names and addresses, will become part of the administrative record and may be released to the public. We provide this notice in order to allow the public, agencies, or other organizations to review and comment on these documents.

Next Steps

NMFS will evaluate the permit application, associated documents, and comments submitted to determine whether the applications meet the requirements of section 10(a)(1)(A) of the ESA and Federal regulations. The final permit decisions will not be made until after the end of the 30-day public comment period and after NMFS has fully considered all relevant comments received. NMFS will publish notice of its final action in the Federal Register.

Dated: March 27, 2018.
Angela Somma,
Chief, Endangered Species Division, Office of Protected Resources, National Marine Fisheries Service.

[FR Doc. 2018-06460 Filed 3-29-18; 8:45 am]

BILLING CODE 3510-22-P